DEPARTMENT OF HEALTH AND HUMAN SERVICES

National Institutes of Health

National Institute on Minority Health and Health Disparities; Amended Notice of Meeting

Notice is hereby given of a change in the meeting of the National Institute on Minority Health and Health Disparities Special Emphasis Panel, April 11, 2014, 2:00 p.m. to April 11, 2014, 5:00 p.m., National Institutes of Health, 6707 Democracy Boulevard, Suite 800, Bethesda, Maryland 20892, which was published in the Federal Register on March 19, 2014, 79 FR 15352.

The meeting notice is amended to change the date of the meeting from April 11, 2014 to April 25, 2014. The meeting is closed to the public.

Dated: March 21, 2014.
David Clary,
Program Analyst, Office of Federal Advisory Committee Policy.

[FR Doc. 2014-06742 Filed 3-26-14; 8:45 am]

BILLING CODE 4140-01-P